DEPARTMENT OF TRANSPORTATION

Federal Aviation Administration

14 CFR Part 60

[Docket No.: FAA-2014-0391; Amdt. No. 60—4]

RIN 2120-AK08

Flight Simulation Training Device Qualification Standards for Extended Envelope and Adverse Weather Event Training Tasks

Correction

14 CFR PART 60 [CORRECTED]

In FR Rule Doc. No. 2016-05860 beginning on page 18178 in the issue of March 30, 2016, make the following corrections:

1. Correct the table appearing on page 18240 to read as follows:

Table A1B—Table of Tasks vs. Simulator Level
Entry No. | QPS Requirements: Subjective requirements In order to be qualified at the simulator qualification level indicated, the simulator must be able to perform at least the tasks associated with that level of qualification | QPS Requirements: Simulator levels: A | QPS Requirements: Simulator levels: B | QPS Requirements: Simulator levels: C | QPS Requirements: Simulator levels: D | Information: Notes
* * * * * * *
3. Inflight Maneuvers.
* * * * * * *
3.b. High Angle of Attack Maneuvers
3.b.1 | Approaches to Stall | X | X | X | X
3.b.2 | Full Stall |  |  | X | X | Stall maneuvers at angles of attack above the activation of the stall warning system.
|  |  |  |  |  | Required only for FSTDs qualified to conduct full stall training tasks as indicated on the Statement of Qualification.
* * * * * * *
3.g. | Upset Prevention and Recovery Training (UPRT) |  |  | X | X | Upset recovery or unusual attitude training maneuvers within the FSTD's validation envelope that are intended to exceed pitch attitudes greater than 25 degrees nose up; pitch attitudes greater than 10 degrees nose down, and bank angles greater than 45 degrees.
* * * * * * *

2. Correct the table appearing on pages 18242-18282 to read as follows:

3. Correct the tables appearing on pages 18284-18300 to read as follows:

* * * * *

* * * * *

3. Correct the tables appearing on pages 18308-18326 to read as follows:

4. On page 18327, correct amendatory instruction 15 to read as follows:

15. Amend Attachment 2 to Appendix B as follows:

A. Revise paragraph 2.e;

B. Revise Table B2A;

C. Revise Table B2B;

D. Revise Table B2C;

E. Revise Table B2D; and

F. Revise Table B2E.

The revisions and additions read as follows:

* * * * *

5. Correct the tables appearing on pages 18329-18375 to read as follows:

6. Correct the tables appearing on pages 18377-18387 to read as follows:

[FR Doc. C1-2016-05860 Filed 5-19-16; 8:45 am]

BILLING CODE 1505-01-D